DEPARTMENT OF COMMERCE

National Oceanic and Atmospheric Administration

RIN 0648-XE100

Marine Mammals; File Nos. 14122, 14585

AGENCY: National Marine Fisheries Service (NMFS), National Oceanic and Atmospheric Administration (NOAA), Commerce.

ACTION: Notice; issuance of permit amendments.

SUMMARY: Notice is hereby given that Janice Straley, University of Alaska Southeast Sitka Campus, 1332 Seward Ave., Sitka, Alaska 99835, and Adam A. Pack, Ph.D., Departments of Psychology and Biology, University of Hawaii at Hilo, 200 West Kawili Street, Hilo, Hawaii 96720, have been issued minor amendments to Scientific Research Permit Nos. 14122 and 14585, respectively.

ADDRESSES: The amendments and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Amy Sloan, (301) 427-8401.

SUPPLEMENTARY INFORMATION: The requested amendments have been granted under the authority of the Marine Mammal Protection Act of 1972, as amended (16 U.S.C. 1361 et seq.) and the regulations governing the taking and importing of marine mammals (50 CFR part 216), the Endangered Species Act of 1973, as amended (ESA; 16 U.S.C. 1531 et seq.), and the regulations governing the taking, importing, and exporting of endangered and threatened species (50 CFR parts 222-226).

Permit No. 14122, issued on July 14, 2010 (75 FR 43150), authorizes research in Alaskan waters through July 31, 2015. The research is focused on humpback (Megaptera novaeangliae), sperm (Physeter macrocephalus), and killer whales (Orcinus orca) and includes photo-identification, biopsy sampling, multiple tag types, and active and passive acoustics. The minor amendment (No. 14122-01) extends the duration of the permit through July 31, 2016, but does not change any other terms or conditions of the permit.

Permit No. 14585, issued on July 14, 2010 (75 FR 43150), authorizes research in the Eastern, Western and Central North Pacific Ocean, primarily Hawaii and Alaska, through July 31, 2015. The research is focused on humpback whales and includes photo-identification, underwater videogrammetry, underwater videography, passive acoustic recordings, Crittercam studies, and biopsy sampling. The minor amendment (No. 14585-01) extends the duration of the permit through July 31, 2016, but does not change any other terms or conditions of the permit.

Dated: August 25, 2015.
Julia Harrison,
Chief, Permits and Conservation Division, Office of Protected Resources, National Marine Fisheries Service.

[FR Doc. 2015-21391 Filed 8-28-15; 8:45 am]

BILLING CODE 3510-22-P